JUDICIAL CONFERENCE OF THE UNITED STATES

Hearings of The Judicial Conference Advisory Committees on Rules of Appellate, Bankruptcy, and Civil Procedure

AGENCY: Judicial Conference of the United States; Advisory Committees on Rules of Appellate, Bankruptcy, and Civil Procedure.

ACTION: Notice of proposed amendments and open hearings.

SUMMARY: The Advisory Committees on Rules of Appellate, Bankruptcy, and Civil Procedure have proposed amendments to the following rules:

Appellate Rule: 25.

Bankruptcy Rule: 5005.

Civil Rule: 5.

The text of the proposed rules amendments and the accompanying Committee Notes can be found at the United States Federal Courts' home page at http://www.uscourts.gov/rules.

The Judicial Conference Committee on Rules of Practice and Procedure submits these proposed rules amendments for public comment. All comments and suggestions with respect to them must be placed in the hands of the Secretary as soon as convenient and, in any event, not later than February 15, 2005. All written comments on the proposed rule amendments can be sent by one of the following three ways: by overnight mail to Peter G. McCabe, Secretary, Committee on Rules of Practice and Procedure of the Judicial Conference of the United States, Thurgood Marshall Federal Judiciary Building, Washington, DC 20544; by electronic mail at http://www.uscourts.gov/rules; or by facsimile to Peter G. McCabe at (202) 502-1766. In accordance with established procedures all comments submitted on the proposed amendments are available to public inspection.

Public hearings are scheduled to be held on the amendments to:

• Appellate Rules in Washington, DC, on January 25, 2005;

• Bankruptcy Rules in Washington, DC, on February 3, 2005; and in San Francisco, California, on February 7, 2005; and

• Civil Rules in San Francisco, California, on January 12, 2005; in Dallas, Texas, on January 28, 2005; and in Washington, DC, on February 11, 2005.

Those wishing to testify should contact the Secretary at the address above in writing at least 30 days before the hearing.

FOR FURTHER INFORMATION CONTACT: John K. Rabiej, Chief, Rules Committee Support Office, Administrative Office of the United States Courts, Washington, DC 20544, telephone (202) 502-1820.

Dated: November 24, 2004.
John K. Rabiej,
Chief, Rules Committee Support Office.

[FR Doc. 04-26578 Filed 12-1-04; 8:45 am]

BILLING CODE 2210-55-M